DEPARTMENT OF ENERGY

Federal Energy Regulatory Commission

[Project No. 5223-039]

Packaging Corporation of America; Notice of Intent To File License Application, Filing of Pre-Application Document, Approving Use of the Traditional Licensing Process

a. Type of Filing: Notice of Intent to File License Application and Request to Use the Traditional Licensing Process.

b. Project No.: 5223-039.

c. Date Filed: November 23, 2022.

d. Submitted By: Packaging Corporation of America (Packaging Corp.).

e. Name of Project: International Falls Hydroelectric Project.

f. Location: The project is located on the Rainy River in Koochiching and St. Louis Counties, Minnesota. The project includes an unknown quantity of federal land within Voyageurs National Park.

g. Filed Pursuant to: 18 CFR 5.3 of the Commission's regulations.

h. Potential Applicant Contact: Ethan Croatt, Packaging Corporation of America, 400 2nd Street, International Falls, MN 56649; (218) 838-6801; email—EthanCroatt@packagingcorp.com.

i. FERC Contact: Nicholas Ettema at (312) 596-4447; or email at nicholas.ettema@ferc.gov.

j. Packaging Corp. filed its request to use the Traditional Licensing Process on November 23, 2022. Packaging Corp. provided public notice of its request on November 25, 2022. In a letter dated January 23, 2023, the Director of the Division of Hydropower Licensing (Director) approved Packaging Corp.'s request to use the Traditional Licensing Process. The Director also approved Packaging Corp.'s request to waive regulations at 18 CFR 16.8(b)(3) with regard to the timing of a project site visit. An opportunity for a project site visit must occur no later than July 31, 2023.

k. With this notice, we are initiating informal consultation with the U.S. Fish and Wildlife Service under section 7 of the Endangered Species Act and the joint agency regulations thereunder at 50 CFR part 402. We are also initiating consultation with the Minnesota State Historic Preservation Officer, as required by section 106, National Historic Preservation Act, and the implementing regulations of the Advisory Council on Historic Preservation at 36 CFR 800.2.

l. With this notice, we are designating Packaging Corp. as the Commission's non-federal representative for carrying out informal consultation pursuant to section 7 of the Endangered Species Act and consultation pursuant to section 106 of the National Historic Preservation Act.

m. Packaging Corp. filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The licensee states its unequivocal intent to submit an application for a subsequent license for Project No. 5223. Pursuant to 18 CFR 16.8, 16.9, and 16.10, each application for a new license and any competing license applications must be filed with the Commission at least 24 months prior to the expiration of the existing license. All applications for license for this project must be filed by November 30, 2025.

p. Register online at http://www.ferc.gov/docs-filing/esubscription.asp to be notified via email of new filing and issuances related to this or other pending projects. For assistance, contact FERC Online Support.

Dated: January 23, 2023.
Kimberly D. Bose,
Secretary.

[FR Doc. 2023-01661 Filed 1-26-23; 8:45 am]

BILLING CODE 6717-01-P